ENVIRONMENTAL PROTECTION AGENCY

[EPA-R08-OAR-2018-0310, EPA-R08-OAR-2018-0311, EPA-R08-OAR-2018-0324, EPA-R08-OAR-2018-0328, EPA-R08-OAR-2018-0329, EPA-R08-OAR-2018-0331; FRL-9988-34—Region 8]

Notice of Final Decision to Issue Federal Minor New Source Review Permits to Six Sources on the Uintah and Ouray Indian Reservation Owned and Operated by Anadarko Uintah Midstream, LLC

AGENCY: Environmental Protection Agency (EPA).

ACTION: Notice of final agency action.

SUMMARY: This notice announces that the Environmental Protection Agency (EPA) issued final permit decisions for six Clean Air Act Minor New Source Review (MNSR) Permits in Indian country to Anadarko Uintah Midstream, LLC, (Anadarko) for the Archie Bench Compressor Station, the Bitter Creek Compressor Station, the East Bench Compressor Station, the North Compressor Station, the North East Compressor Station and the Sage Grouse Compressor Station. These permits incorporate emissions control requirements originally established in a 2008 federal consent decree into federally enforceable permits, which is a step toward allowing the consent decree to be terminated. Consistent with the federal consent decree, the permits include enforceable carbon monoxide emissions control efficiency requirements for the 4-stroke lean-burn compressor engines using catalytic emissions control systems and enforceable requirements to install and operate only instrument air-driven or low-bleed pneumatic controllers. The permit for the Bitter Creek Compressor Station also includes enforceable requirements for the installation and operation of low-emission tri-ethylene glycol (TEG) dehydration systems for control of volatile organic compound emissions.

DATES: The EPA issued final MNSR permit decisions for the six compressor stations on December 7, 2018. The permits became effective on that date. Pursuant to section 307(b)(1) of the Clean Air Act, 42 U.S.C. 7607(b)(1), judicial review of this final permit decision, to the extent it is available, may be sought by filing a petition for review in the United States Court of Appeal for the Tenth Circuit by April 15, 2019.

ADDRESSES: Publicly available docket materials are available either electronically in www.regulations.gov or in hard copy at the Air Program, Environmental Protection Agency (EPA), Region 8, 1595 Wynkoop Street, Denver, Colorado 80202-1129. The EPA requests that if at all possible, you contact the individual listed in the FOR FURTHER INFORMATION CONTACT section to view the hard copy of the dockets. You may view the hard copy of the dockets Monday through Friday, 8:00 a.m. to 4:00 p.m., excluding federal holidays.

Anyone who wishes to review the EPA Environmental Appeals Board (EAB) decision described below or documents in the EAB's electronic docket for its decision can obtain them at https://www.epa.gov/eab/. Key portions of the administrative record for this decision (including the final permits, all public comments, the EPA's responses to the public comments, and additional supporting information) are available through a link at Region 8's website, https://www.epa.gov/caa-permitting/caa-permits-issued-epa-region-8, or at https://www.regulations.gov. (Docket ID Nos. EPA-R08-OAR-2018-0310, EPA-R08-OAR-2018-0311, EPA-R08-OAR-2018-0324, EPA-R08-OAR-2018-0328, EPA-R08-OAR-2018-0329, and EPA-R08-OAR-2018-0331).

FOR FURTHER INFORMATION CONTACT: Claudia Smith, Air Program, EPA Region 8, Mailcode 8P-AR, 1595 Wynkoop Street, Denver, Colorado 80202-1129, (303) 312-6520, smith.claudia@epa.gov.

SUPPLEMENTARY INFORMATION: The EPA initially issued final permits on June 7, 2018, to Anadarko for the Archie Bench Compressor Station (Tribal Minor NSR Permit SMNSR-UO-000817-2016.001), the Bitter Creek Compressor Station (Tribal Minor NSR Permit SMNSR-UO-000818-2016.001), the East Bench Compressor Station (Tribal Minor NSR Permit SMNSR-UO-000824-2016.001), the North Compressor Station (Tribal Minor NSR Permit SMNSR-UO-000071-2016.001), the North East Compressor Station (Tribal Minor NSR Permit SMNSR-UO-001874-2016.001), and the Sage Grouse Compressor Station (Tribal Minor NSR Permit SMNSR-UO-001875-2016.001). The EPA regulations at 40 CFR 49.159(d) provided an opportunity for administrative review by the EPA's EAB of these initial permit decisions.

The EPA's EAB received one petition for review of the permits, and on November 15, 2018, the EAB issued an Order denying the petition for review. See In re Anadarko Uintah Midstream, LLC, NSR Appeal No. 18-01 (EAB, Nov. 15, 2018) (Order Denying Review). Following the EAB's action, pursuant to 40 CFR 49.159(d)(8), the EPA issued final permit decisions on December 7, 2018. All conditions of the Anadarko permits, as initially issued by the EPA on June 7, 2018, are final and effective as of December 7, 2018.

Dated: February 6, 2019.
Douglas Benevento,
Regional Administrator, Region 8.

[FR Doc. 2019-01978 Filed 2-11-19; 8:45 am]

BILLING CODE 6560-50-P